DEPARTMENT OF TRANSPORTATION

Federal Aviation Administration

14 CFR Part 39

[Docket No. FAA-2005-22401; Directorate Identifier 2004-NM-93-AD]

RIN 2120-AA64

Airworthiness Directives; Hamburger Flugzeugbau G.m.b.H. Model HFB 320 HANSA Airplanes

AGENCY: Federal Aviation Administration (FAA), Department of Transportation (DOT).

ACTION: Notice of proposed rulemaking (NPRM).

SUMMARY: The FAA proposes to adopt a new airworthiness directive (AD) for all Hamburger Flugzeugbau G.m.b.H. Model HFB 320 HANSA airplanes. This proposed AD would require revising the Limitations Section of the Airplane Flight Manual to prohibit operation of the airplane past its designed life limit for the primary structure, which is 15,000 flight hours or 15,000 fight cycles, whichever occurs first; and to require contacting the FAA for approval of analysis that the airplane is safe to continue operation beyond the designed life limit. This proposed AD is prompted by a report that all airplanes in operation might have met or exceeded the designed life limit for the primary structure. We are proposing this AD to prevent continued operation of an airplane beyond its designed life limit for the primary structure, which could result in reduced structural integrity of the airplane.

DATES: We must receive comments on this proposed AD by October 14, 2005.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, Room PL-401, Washington, DC 20590.

• By fax: (202) 493-2251.

• Hand Delivery: Room PL-401 on the plaza level of the Nassif Building, 400 Seventh Street SW., Washington, DC, between 9 a.m. and 5 p.m., Monday through Friday, except Federal holidays.

For service information identified in this proposed AD, contact Airbus Deutschland G.m.b.H, Customer Service HFB 320, Postfach 95 01 09, D-21111 Hamburg, Germany.

You can examine the contents of this AD docket on the Internet at http://dms.dot.gov, or in person at the Docket Management Facility, U.S. Department of Transportation, 400 Seventh Street SW., room PL-401, on the plaza level of the Nassif Building, Washington, DC. This docket number is FAA-2005-22401; the directorate identifier for this docket is 2004-NM-93-AD.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Comments Invited

We invite you to submit any relevant written data, views, or arguments regarding this proposed AD. Send your comments to an address listed under ADDRESSES. Include “Docket No. FAA-2005-22401; Directorate Identifier 2004-NM-93-AD” at the beginning of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of our docket Web site, anyone can find and read the comments in any of our dockets, including the name of the individual who sent the comment (or signed the comment on behalf of an association, business, labor union, etc.). You can review the DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

The Luftfahrt-Bundesamt (LBA) , which is the airworthiness authority for Germany, notified us that an unsafe condition may exist on all Hamburger Flugzeugbau G.m.b.H. Model HFB 320 HANSA airplanes. The LBA advises that it is now possible that these airplanes might have exceeded, be close to, or have reached the design goal of the primary structure, which is 15,000 flight cycles, or 15,000 flight hours, whichever occurs first. The LBA states that Chapter 5 of the airplane maintenance manual (AMM) should be revised to prohibit operators from flying the airplane after it reaches its design goal, unless the operator complies with further inspections and/or modifications. This condition, if not corrected, could result in reduced structural integrity of the airplane.

Relevant Service Information

Hamburger Flugzeugbau has issued HFB 320 Hansa Service Bulletin 05-01, Revision 1, dated December 11, 2002. The service bulletin describes procedures for inserting Temporary Revision (TR) 5-55, dated December 11, 2002, into Chapter 5 of the AMM. TR 5-55 restricts use of the AMM to the design goal limit (life limit) of the airplane. TR 5-55 is included in the service bulletin. For airplanes that reach, or have exceeded, the life limit of 15,000 flight cycles, or 15,000 flight hours, the service bulletin states that operators should contact the manufacturer to determine a program of inspections and repairs for the airplane to extend its operation. The service bulletin also recommends that operators of airplanes that have reached or exceeded the life limit send a report to the manufacturer indicating that they have inserted TR 5-55 into Chapter 5 of the AMM; and giving information about the airplane and its owner. Accomplishing the actions specified in the service information is intended to adequately address the unsafe condition. The LBA mandated the service information and issued German airworthiness directive 2002-158, dated October 3, 2002, to ensure the continued airworthiness of these airplanes in Germany.

FAA's Determination and Requirements of the Proposed AD

This airplane model is manufactured in Germany and is type certificated for operation in the United States under the provisions of section 21.29 of the Federal Aviation Regulations (14 CFR 21.29) and the applicable bilateral airworthiness agreement. Pursuant to this bilateral airworthiness agreement, the LBA has kept the FAA informed of the situation described above. We have examined the LBA's findings, evaluated all pertinent information, and determined that we need to issue an AD for products of this type design that are certificated for operation in the United States.

Therefore, we are proposing this AD, which would require revising the airplane flight manual to prohibit operation of the airplane past its designed life limit for the primary structure, which is 15,000 flight hours or 15,000 fight cycles, whichever occurs first. This proposed AD would also require contacting the FAA for approval to continue operation beyond the designed life limit.

Differences Between the Proposed AD and the German Airworthiness Directive

The German airworthiness directive also specifies that operators should ground airplanes that have reached the designed life limit, and contact the manufacturer to determine actions to take for continued airworthiness. This proposed AD would require that operators contact the FAA to determine these actions.

Operators should note that, although the German airworthiness directive specifies that operators should send an accomplishment report to the manufacturer, this proposed AD would not require that action.

Costs of Compliance

There are 4 airplanes of U.S. registry that would be affected by this proposed AD. The revision to the Airworthiness Limitations Section of the Instructions for Continued Airworthiness that is proposed in this AD would take about 1 work hour per airplane at an average labor rate of $65 per work hour. Based on these figures, the cost of the proposed AFM revision for U.S. operators would be $260, or $65 per airplane. We recognize that this proposed AD may impose certain additional operational costs. However, we cannot calculate those costs because we cannot predict the extent of any necessary repairs to ensure the continued airworthiness of the affected airplanes.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the National Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Hamburger Flugzeugbau G.m.b.H.: Docket No. FAA-2005-22401; Directorate Identifier 2004-NM-93-AD.

Comments Due Date

(a) The Federal Aviation Administration must receive comments on this AD action by October 14, 2005.

Affected ADs

(b) None.

Applicability

(c) This AD applies to all Hamburger Flugzeugbau Model HFB 320 HANSA airplanes, certificated in any category.

Unsafe Condition

(d) This AD was prompted by a report that all airplanes in operation might have met or exceeded the designed life limit for the primary structure. We are issuing this AD to prevent continued operation of an airplane beyond its designed life limit for the primary structure, which could result in reduced structural integrity of the airplane.

Compliance

(e) You are responsible for having the actions required by this AD performed within the compliance times specified, unless the actions have already been done.

Airworthiness Limitations Revision

(f) Within 30 days after the effective date of this AD: Revise the Limitations section of the Airplane Flight Manual (AFM) to state the following (or insert a copy of this AD into the limitations section):

Do not operate the airplane beyond 15,000 total flight cycles, or 15,000 total flight hours, whichever occurs first.

(g) This limitation may be removed from the AFM after the Manager, International Branch, ANM-116, FAA, approves analysis that would substantiate continued safe operation beyond the designed life limit of 15,000 total flight cycles, or within 15,000 total flight hours on the airplane, whichever occurs first.

Alternative Methods of Compliance (AMOCs)

(h) The Manager, International Branch, ANM-116, has the authority to approve AMOCs for this AD, if requested in accordance with the procedures found in 14 CFR 39.19.

Related Information

(i) German airworthiness directive 2002-158, dated October 3, 2002, also addresses the subject of this AD.

Issued in Renton, Washington, on September 6, 2005.
Kalene C. Yanamura,
Acting Manager, Transport Airplane Directorate, Aircraft Certification Service.

[FR Doc. 05-18210 Filed 9-13-05; 8:45 am]

BILLING CODE 4910-13-P